DEPARTMENT OF JUSTICE

Notice of Lodging of Proposed Consent Decree Under the Comprehensive Environmental Response, Compensation, and Liability Act

On August 6, 2020, the Department of Justice and the State of California on behalf of the California Department of Toxic Substances Control (“DTSC”) lodged a proposed Consent Decree with the United States District Court for the Central District of California pertaining to environmental contamination at the Dual Site Groundwater Operable Unit (“Dual Site OU”) of the Montrose Chemical Corp. and Del Amo Superfund Sites, in Los Angeles County, California. This proposed Consent Decree was lodged in the case United States of America and State of California vs. Montrose Chemical Corp. of California et al., Civil Action No. 2:90-cv-03122 DOC (C.D. Cal.); it resolves certain of the claims in that case.

The proposed Consent Decree, titled in full “Partial Consent Decree (Dual Site Operable Unit—Chlorobenzene Plume Remedy Operation and Maintenance)”, resolves certain claims or potential claims under Sections 106 and 107 of the Comprehensive Environmental Response, Compensation, and Liability Act, 42 U.S.C. 9606, 9607, as well as certain potential state law claims, in connection with environmental contamination at the Dual Site OU. The settling defendants are TFCF America, Inc.; Bayer CropScience Inc.; Montrose Chemical Corporation of California; Stauffer Management Company LLC; and JCI Jones Chemicals Inc. The Consent Decree requires the settling defendants to perform long-term operation and maintenance of the Chlorobenzene Plume Remedy at the Dual Site OU, and to make a payment of $4,000,000.00 toward the United States' unreimbursed Dual Site OU past costs and a payment of $177,265.36 towards DTSC's Dual Site OU past costs. (These same settling defendants, other than JCI Jones Chemicals Inc., have already committed in a previously approved partial consent decree to perform construction of the Chlorobenzene Plume Remedy.) The proposed Consent Decree also requires the settling defendants to pay the United States' and DTSC's future response costs for overseeing the work the settling defendants will be performing at the Dual Site OU.

The publication of this notice opens a period for public comment on the Consent Decree. Comments should be addressed to the Assistant Attorney General, Environment and Natural Resources Division, and should refer to United States of America and State of California vs. Montrose Chemical Corp. of California et al., D.J. Ref. Nos. 90-11-3-511 and 90-11-2-933/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $96.00 (25 cents per page reproduction cost) for the Consent Decree, payable to the United States Treasury. For a paper copy without the appendices and signature pages, the cost is $22.25.

Henry S. Friedman,
Assistant Section Chief, Environmental Enforcement Section, Environment and Natural Resources Division.

[FR Doc. 2020-17580 Filed 8-11-20; 8:45 am]

BILLING CODE 4410-15-P